DEPARTMENT OF THE INTERIOR

National Park Service

Notice of Inventory Completion: Saint Martin's Waynick Museum, Lacey, WA

AGENCY: National Park Service, Interior.

ACTION: Notice.

Notice is here given in accordance with the Native American Graves Protection and Repatriation Act (NAGPRA), 25 U.S.C. 3003, of the completion of an inventory of human remains in the possession of the Saint Martin's Waynick Museum, Lacey, WA. The human remains were removed from a site near the Grand Coulee Dam, Stevens County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Saint Martin's Waynick Museum professional staff in consultation with representatives of the Confederated Tribes of the Colville Reservation, Washington.

At an unknown date, human remains representing a minimum of one individual were removed from a site in or near Kettle Falls, located near the Grand Coulee Dam, Stevens County, WA. No known individual was identified. No associated funerary objects are present.

The remains of this individual, consisting of a cranium and mandible, are identified in an accompanying note as being from “Kettle Falls, Stevens County, Washington, near the Grand Coulee Dam.” Most of the objects in the Saint Martin's Waynick Museum collection not linked to a specific donor are assumed to have been part of the original, founding collection of Mr. Lynne Waynick, and were donated to the care of Saint Martin's Abbey during the 1960s. As no other donor is identified, the human remains of this individual are assumed to be part of Mr. Waynick's collection.

Archeological and historical documentation locates the Kettle Falls area (both before and after the construction of the Grand Coulee Dam) within the aboriginal territory of the Confederated Tribes of the Colville Reservation, Washington. Ethnographic sources associate the Kettle Falls area with the Colville and the Lakes Tribes or Bands (Kennedy and Bouchard 1998; Mooney 1896; Ray 1936; Spier 1936; Swanton 1953). Both the Colville and the Lakes became part of the 12 tribes and bands of the Confederated Tribes of the Colville Reservation, Washington. The Colville Reservation was created by Executive Order in 1872.

Officials of the Saint Martin's Waynick Museum have determined that, pursuant to 25 U.S.C. 3001 (9-10), the human remains described above represent the physical remains of one individual of Native American ancestry. Officials of the Saint Martin's Waynick Museum also have determined that, pursuant to 25 U.S.C. 3001 (2), there is a relationship of shared group identity that can be reasonably traced between the Native American human remains and the Confederated Tribes of the Colville Reservation, Washington.

Representatives of any other Indian tribe that believes itself to be culturally affiliated with the human remains should contact Brother Luke Devine, Saint Martin's Waynick Museum, 5300 Pacific Ave. SE., Lacey, WA 98503, telephone (360) 438-4458, before September 21, 2009. Repatriation of the human remains to the Confederated Tribes of the Colville Reservation, Washington may proceed after that date if no additional claimants come forward.

Saint Martin's Waynick Museum is responsible for notifying the Confederated Tribes of the Colville Reservation, Washington that this notice has been published.

Dated: August 7, 2009
Sherry Hutt,
Manager, National NAGPRA Program.

[FR Doc. E9-20105 Filed 8-20-09; 8:45 am]

BILLING CODE 4312-50-S